OFFICE OF THE UNITED STATES TRADE REPRESENTATIVE

Trade Policy Staff Committee: Public Comments Regarding Granting Suriname Eligibility for Benefits Under the Caribbean Basin Economic Recovery Act and the Caribbean Basin Trade Partnership Act

AGENCY: Office of the United States Trade Representative.

ACTION: Notice and request for public comment.

SUMMARY: The Trade Policy Staff Committee (TPSC) is seeking comments from the public on whether Suriname should be designated as eligible to receive benefits under the Caribbean Basin Economic Recovery Act (CBERA), as amended by the Caribbean Basin Trade Partnership Act (CBTPA) (19 U.S.C. 2701 et seq.). Although Congress has identified Suriname as potentially eligible for benefits, the government of Suriname did not request beneficiary status under either the CBERA or the CBTPA until December 2009. The TPSC invites written comments concerning whether Suriname meets the criteria described in sections 212(b), 212(c), and 213(b)(5)(B) of the CBERA, as amended. The TPSC will consider these comments in developing its recommendation to the President regarding Suriname's eligibility for benefits under CBERA and CBTPA.

DATES: Public comments are due at USTR no later than 5 p.m., May 17, 2010.

ADDRESSES: Comments should be submitted electronically via the Internet at http://www.regulations.gov. For alternatives to on-line submissions please contact Gloria Blue, Executive Secretary, Trade Policy Staff Committee, at (202) 395-3475.

FOR FURTHER INFORMATION CONTACT: For procedural questions concerning written comments, contact Gloria Blue, Executive Secretary, Trade Policy Staff Committee, at (202) 395-3475. All other questions should be directed to Kent Shigetomi, Office of the Americas, Office of the United States Trade Representative, 600 17th Street, NW., Room 523, Washington, DC 20508. His telephone number is (202) 395-3412.

SUPPLEMENTARY INFORMATION: Interested parties are invited to submit comments on whether Suriname meets or fails to satisfy the eligibility criteria described in sections 212(b), 212(c), and 213(b)(5)(B) of the CBERA, as amended. Those criteria may be accessed at http://www.tinyurl.com/yelwmc5, and are summarized below.

Eligibility Criteria for Designation as a Beneficiary Country Under CBERA and CBTPA (Sections 212(b) and (c) of CBERA)

After a country identified in the statute as a potential beneficiary country requests benefits under CBERA and CBTPA, the President must determine whether to designate the country as a beneficiary under the two programs. In determining whether to designate a country as a CBERA beneficiary country, the President must take into account the criteria contained in section 212(b) of the CBERA, which include whether the country: (1) Is a Communist country; (2) has nationalized, expropriated or otherwise seized ownership or control of property owned by a United States citizen or by a corporation, partnership, or association which is 50 percent or more beneficially owned by United States citizens, or taken certain steps that have such an effect, without proper compensation or arbitration of the dispute; (3) fails to act in good faith in enforcing arbitral awards in favor of United States citizens or a corporation, partnership or association which is 50 percent or more beneficially owned by United States citizens; (4) affords preferential treatment to the products of a developed country, other than the United States, which has, or is likely to have, a significant adverse effect on United States commerce; (5) owns an entity that engages in the broadcast of copyrighted material belonging to United States copyright owners without their express consent; (6) is a signatory to a treaty, convention, protocol, or other agreement regarding the extradition of United States citizens; and (7) has not or is not taking steps to afford internationally recognized worker rights (as defined in section 507(4) of the Trade Act of 1974 (19 U.S.C. 2467(4))) to workers in the country.

The President must also take into account the criteria contained in section 212(c) of the CBERA, which include: (1) The economic conditions in such country; (2) the extent to which such country has assured the United States it will provide equitable and reasonable access to the markets and basic commodity resources of such country; (3) the degree to which such country follows the accepted rules of international trade provided for under the World Trade Organization (WTO) Agreement and the multilateral trade agreements; (4) the degree to which such country uses export subsidies or imposes export performance requirements or local content requirements which distort international trade; (5) the degree to which the trade policies of such country as they relate to other beneficiary countries are contributing to the revitalization of the region; (6) the degree to which such country is undertaking self-help measures to promote its own economic development; (7) whether or not such country has taken or is taking steps to afford to workers in that country internationally recognized worker rights; (8) the extent to which such country provides under its law adequate and effective means for foreign nationals to secure, exercise, and enforce exclusive rights in intellectual property; (9) the extent to which such country prohibits its nationals from engaging in the broadcast of copyrighted material belonging to United States copyright owners without their express consent; (10) and the extent to which such country is prepared to cooperate with the United States in the administration of the provisions of the CBERA.

Eligibility Criteria for CBTPA Beneficiary Countries (Section 213(b)(5)(B) of the CBERA)

In determining whether to designate a country as a CBTPA beneficiary country, the President must take into account the criteria contained in sections 212(b) and (c) of CBERA described above, and other appropriate criteria, including the following criteria contained in section 213(b)(5)(B) of the CBERA: (1) Whether the beneficiary country has demonstrated a commitment to undertake its obligations under the WTO Agreement and participate in negotiations toward the completion of the Free Trade Area of the Americas or another free trade agreement; (2) the extent to which the country provides protection of intellectual property rights consistent with or greater than the protection afforded under the Agreement on Trade-Related Aspects of Intellectual Property Rights described in section 101(d)(15) of the Uruguay Round Agreements Act (19 U.S.C. 3511(d)(15)); (3) the extent to which the country provides internationally recognized worker rights; (4) whether the country has implemented its commitments to eliminate the worst forms of child labor; (5) the extent to which the country has met U.S. counter-narcotics certification criteria under the Foreign Assistance Act of 1961; (6) the extent to which the country has taken steps to become a party to and implement the Inter-American Convention Against Corruption; and (7) the extent to which the country applies transparent, nondiscriminatory and competitive procedures in government procurement and contributes to efforts in international fora to develop and implement rules on transparency in government procurement.

Additionally, before a country can receive benefits under the CBTPA, the President must also determine that the country has satisfied the requirements of section 213(b)(4)(A)(ii) of CBERA (19 U.S.C. 2703(b)(4)(A)(ii)) relating to the implementation of procedures and requirements similar to the relevant procedures and requirements contained in chapter 5 of the North American Free Trade Agreement.

Requirements for Submissions. Persons submitting comments must do so in English and must identify (on the first page of the submission) the “Suriname CBERA and CBTPA Eligibility.” Written comments must be received by May 17, 2010.

In order to ensure the most timely and expeditious receipt and consideration of comments, USTR has arranged to accept on-line submissions via http://www.regulations.gov. To submit comments via http://www.regulations.gov, enter docket number USTR-2010-0011 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov Web site provides the option of making submissions by filling in a “General Comments” field, or by attaching a document. We expect that most submissions will be provided in an attached document. If a document is attached, it is sufficient to type “See attached” in the “General Comments” field.

Submissions in Microsoft Word (.doc) or Adobe Acrobat (.pdf) are preferred. If an application other than those two is used, please identify in your submission the specific application used. For any comments submitted electronically containing business confidential information, the file name of the business confidential version should begin with the characters “BC” and must be submitted separately from the public version. Any page containing business confidential information must be clearly marked “BUSINESS CONFIDENTIAL” on the top of that page. If you file comments containing business confidential information you must also submit a public version of the comments under a separate submission. The file name of the public version should begin with the character “P”. The “BC” and “P” should be followed by the name of the person or entity submitting the comments. If you submit comments that contain no business confidential information, the file name should begin with the character “P”, followed by the name of the person or entity submitting the comments. Electronic submissions should not attach separate cover letters; rather, information that might appear in a cover letter should be included in the comments you submit. Similarly, to the extent possible, please include any exhibits, annexes, or other attachments to a submission in the same file as the submission itself and not as separate files.

We strongly urge submitters to use electronic filing. If an on-line submission is impossible, alternative arrangements must be made with Ms. Blue prior to delivery for the receipt of such submissions. Ms. Blue may be contacted at (202) 395-3475. General information concerning the Office of the United States Trade Representative may be obtained by accessing its Internet Web site (http://www.ustr.gov).

Carmen Suro-Bredie,
Chairman, Trade Policy Staff Committee.

[FR Doc. 2010-7513 Filed 4-2-10; 8:45 am]

BILLING CODE 3190-W0-P